DEPARTMENT OF VETERANS AFFAIRS

[OMB Control No. 2900-0567]

Proposed Information Collection Activity: Proposed Collection; Comment Request

AGENCY: National Cemetery Administration, Department of Veterans Affairs

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each proposed extension of a currently approved collection and allow 60 days for public comment in response to the notice. This notice solicits comments on the information needed to request additional certificates, replacements or corrections to a President Memorial Certificate (PMC).

DATES: Written comments and recommendations on the proposed collection of information should be received on or before October 30, 2000.

ADDRESSES: Submit written comments on the collection of information to Joycelyn Hearn, National Cemetery Administration (402B), Department of Veterans Affairs, 810 Vermont Avenue, NW, Washington, DC 20420. Please refer to “OMB Control No. 2900-0567” in any correspondence.

FOR FURTHER INFORMATION CONTACT: Joycelyn Hearn at (202) 273-5181 or FAX (202) 273-6695.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: PMC Insert, VA Form 40-0247.

OMB Control Number: 2900-0567.

Type of Review: Extension of a currently approved collection.

Abstract: The purpose of the PMC Insert is to allow an eligible recipient, which includes the next of kin, other relatives or friends, i.e., surviving spouses, sons, daughters, grandchildren, and others, to request additional certificates and/or replacements or corrected certificates upon receipt of the original PMC. Replacements are requested due to the PMCs being bent, water soaked, or other damaged during mail handling; corrected PMCs are requested due to an incorrect name of the deceased veteran. The PMC is a gold foiled-embossed certificate containing the Great Seal of the United States and bearing the President's signature. It is mailed to relatives and friends of deceased, honorably discharged veterans honoring their military service to our Nation. In most cases involving recent deaths, the local VA Regional Office originates the application process without a request from the next of kin as part of processing death benefits claims.

The PMC Insert is not self-initiated by the general public/eligible recipients. There is no form or application that is used to initiate an original request. Original requests are normally in the form of letters and/or telephone calls from eligible recipients.

Affected Public: Individuals or households.

Estimated Annual Burden: 1,298.

Estimated Average Burden Per Respondent: 2 minutes.

Frequency of Response: On occasion.

Estimated Number of Respondents: 38,952.

Dated: August 1, 2000.
By direction of the Acting Secretary.
Donald L. Neilson,
Director, Information Management Service.

[FR Doc. 00-22281 Filed 8-30-00; 8:45 am]

BILLING CODE 8320-01-P